COMMISSION ON CIVIL RIGHTS

Notice of a Public Meeting of the Delaware Advisory Committee to the U.S. Commission on Civil Rights

AGENCY: Commission on Civil Rights.

ACTION: Announcement of meeting.

SUMMARY: Notice is hereby given, pursuant to the provisions of the rules and regulations of the U.S. Commission on Civil Rights (Commission), and the Federal Advisory Committee Act (FACA), that the Delaware Advisory Committee to the Commission will hold a virtual meeting on Wednesday, June 12, 2024, at 1:00 p.m. ET. The purpose of the meeting is for post report discussion of the committee's report on COVID-19 health disparities and people of color in Delaware.

DATES: Wednesday, June 12, 2024, 1:00 p.m. ET.

Meeting Link (Audio/Visual): http://tinyurl.com/5wjwkjnb; password: USCCR-DE

Join by Phone (Audio Only): 1-833-435-1820 USA Toll-Free; Meeting ID: 161 474 2730#

FOR FURTHER INFORMATION CONTACT: Ivy L. Davis, at ero@usccr.gov or by phone at 1-202-530-8468.

SUPPLEMENTARY INFORMATION: Members of the public may attend these Committee meetings through the registration link above. Any interested member of the public may listen to the meeting. An open comment period will be provided to allow members of the public to make brief statements as time allows. Per the Federal Advisory Committee Act, public minutes of the meetings will include a list of persons who attend the meeting. If joining via phone, callers can expect to incur regular charges for calls they initiate over wireless lines, according to their wireless plan. The Commission will not refund any incurred charges. Callers will incur no charge for calls they initiate over land-line connections to the toll-free telephone number. Closed captioning will be available for individuals who are deaf, hard of hearing, or who have certain cognitive or learning impairments. To request additional accommodations, please email Evelyn Bohor, ebohor@usccr.gov, at least 10 business days prior to the meeting.

Members of the public are entitled to submit written comments; the comments must be received in the regional office within 30 days following each meeting. Written comments may be emailed to the attention of Ivy Davis at ero@usccr.gov. Persons who desire additional information may contact Evelyn Bohor at ebohor@usccr.gov.

Records generated from this meeting may be inspected and reproduced at the Regional Programs Coordination Unit Office, as they become available, both before and after the meeting. Records of all meetings will be available via www.facadatabase.gov under the Commission on Civil Rights, Delaware Advisory Committee link. Persons interested in the work of this Committee are directed to the Commission's website, http://www.usccr.gov, or may contact Evelyn Bohor at ebohor@usccr.gov.

Agenda

I. Welcome and Roll Call

II. Post Report Discussions

III. Committee term ends June 16, 2024

IV. Public Comments

V. Adjourn

Exceptional Circumstance: Pursuant to 41 CFR 102-3.150, the notice for this meeting is given less than 15 calendar days prior to the meeting because of the exceptional circumstances of staffing limitations during the holiday.

Dated: May 28, 2024.
David Mussatt,
Supervisory Chief, Regional Programs Unit.

[FR Doc. 2024-12011 Filed 5-30-24; 8:45 am]

BILLING CODE P